DEPARTMENT OF COMMERCE

Patent and Trademark Office

Submission for OMB Review; Comment Request; Deposit of Biological Materials

The United States Patent and Trademark Office (USTPO) will submit to the Office of Management and Budget (OMB) for clearance the following proposal for collection of information under the provisions of the Paperwork Reduction Act (44 U.S.C. Chapter 35).

Agency: United States Patent and Trademark Office, Commerce.

Title: Deposit of Biological Materials.

OMB Control Number: 0651-0022.

Form Number(s): None.

Type of Request: Renewal.

Number of Respondents: 901 responses per year.

Average Hours per Response: The USPTO estimates that it will take the public between 1 hour and 5 hours to gather the necessary information, prepare the appropriate form or documents, and submit the information to the USPTO.

Burden Hours: 905 burden hours per year.

Cost Burden: $2,674,644.45 per year.

Needs and Uses: Information on the deposit of biological materials in depositories is required for (a) the USPTO determination of compliance with 35 U.S.C. 2(b)(2) and 112, and 37 CFR 1.801-1.809 and 1.14, where inventions sought to be patented rely on biological material subject to the deposit requirement, including notification to the interested public about where to obtain samples of deposits; and (b) in compliance with 37 CFR 1.803 to demonstrate that the depositories are qualified to store and test the biological material submitted to them. This collection is used by the USPTO to determine whether or not the applicant has met the requirements of the patent regulations. In addition, the USPTO uses this information to determine the suitability of a respondent depository based upon administrative and technical competence and the depository's agreement to comply with the requirements set forth by the USPTO.

Affected Public: Businesses or other for-profits; not-for-profit institutions.

Frequency: On occasion.

Respondent's Obligation: Required to obtain or retain benefits.

OMB Desk Officer: Kimberly R. Keravouri, email: Kimberly_R_Keravuori@omb.eop.gov.

Once submitted, the request will be publicly available in electronic format through reginfo.gov. Follow the instructions to view Department of Commerce collections currently under review by OMB.

Further information can be obtained by:

• Email: InformationCollection@uspto.gov. Include “0651-0022 copy request” in the subject line of the message.

• Mail: Marcie Lovett, Records Management Division Director, Office of the Chief Information Officer, United States Patent and Trademark Office, P.O. Box 1450, Alexandria, VA 22313-1450.

Written comments and recommendations for the proposed information collection should be sent on or before December 28, 2016 to Kimberly R. Keravouri, OMB Desk Officer, via email to Kimberly_R_Keravouri@omb.eop.gov, or by fax to 202-395-5167, marked to the attention of Kimberly R. Keravouri.

Dated: November 18, 2016.
Marcie Lovett,
Records Management Division Director, OCIO, United States Patent and Trademark Office.

[FR Doc. 2016-28481 Filed 11-25-16; 8:45 am]

BILLING CODE 3510-16-P